DEPARTMENT OF TRANSPORTATION

Federal Aviation Administration

14 CFR Part 39

[Docket No. FAA-2015-8137; Directorate Identifier 2014-NM-104-AD]

RIN 2120-AA64

Airworthiness Directives; Fokker Services B.V. Airplanes

AGENCY: Federal Aviation Administration (FAA), DOT.

ACTION: Notice of proposed rulemaking (NPRM).

SUMMARY: We propose to supersede Airworthiness Directive (AD) 2008-05-18 R1 for certain Fokker Services B.V. Model F.27 Mark 050, 200, 300, 400, 500, 600, and 700 airplanes. AD 2008-05-18 R1 currently requires revising the Airworthiness Limitations Section (ALS) of the Instructions for Continued Airworthiness to incorporate new limitations for fuel tank systems. Since we issued AD 2008-05-18 R1, revised service information has been issued to update the Fuel Airworthiness Limitations Items (ALIs) and critical design configuration control limitations (CDCCLs) that address fuel tank system ignition sources. This proposed AD would require a new maintenance or inspection program revision to incorporate the revised ALIs and CDCCLs. This proposed AD would add certain airplanes to the applicability. We are proposing this AD to prevent the potential of ignition sources inside fuel tanks, which, in combination with flammable fuel vapors, could result in fuel tank explosions and consequent loss of the airplane.

DATES: We must receive comments on this proposed AD by February 18, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Fokker Services B.V., Technical Services Dept., P.O. Box 1357, 2130 EL Hoofddorp, the Netherlands; telephone +31 (0)88-6280-350; fax +31 (0)88-6280-111; email technicalservices@fokker.com; Internet http://www.myfokkerfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-8137; or in person at the Docket Management Facility between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Comments Invited

We invite you to send any written relevant data, views, or arguments about this proposed AD. Send your comments to an address listed under the ADDRESSES section. Include “Docket No. FAA-2015-8137; Directorate Identifier 2014-NM-104-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On October 26, 2009, we issued AD 2008-05-18 R1, Amendment 39-16083 (74 FR 57402, November 6, 2009) for certain Model F.27 Mark 050, 200, 300, 400, 500, 600, and 700 airplanes. AD 2008-05-18 R1 requires revising the Airworthiness Limitations Section (ALS) of the Instructions for Continued Airworthiness to incorporate new limitations for fuel tank systems.

Since we issued AD 2008-05-18 R1, Amendment 39-16083 (74 FR 57402, November 6, 2009), revised service information has been issued to update the fuel ALIs and CDCCLs. The revised service information applies to all Model F.27 Mark 200, 300, 400, 500, 600, and 700 airplanes.

The European Aviation Safety Agency (EASA), which is the Technical Agent for the Member States of the European Union, has issued EASA Airworthiness Directive 2015-0029, dated February 24, 2015 (referred to after this as the Mandatory Continuing Airworthiness Information, or “the MCAI”), to correct an unsafe condition for all Fokker Services B.V. Model F.27 Mark 200, 300, 400, 500, 600, and 700 airplanes. The MCAI states:

* * * [T]he FAA published Special Federal Aviation Regulation (SFAR) 88, and the Joint Aviation Authorities (JAA) published Interim Policy INT/POL/25/12. The review conducted by Fokker Services on the Fokker F27 design in response to these regulations identified a number of Fuel Airworthiness Limitation Items (ALI) and Critical Design Configuration Control Limitations (CDCCL) items to prevent the development of unsafe conditions within the fuel system.

To introduce these Fuel ALI and CDCCL items, Fokker Services published Service Bulletin (SB) F27/28-070. Consequently, EASA issued AD 2006-0207, requiring the implementation of these Fuel ALI and CDCCL items. That [EASA] AD was later revised to make reference to SBF27-28-070R1 and to specify that the use of later SB revisions was acceptable.

In 2014, Fokker Services issued Revision 2 of SBF27-28-070 to update the Fuel ALI and CDCCL items and to consolidate Fuel ALI and CDCCL items contained in a number of other SBs. Consequently, EASA issued AD 2014-0105, superseding AD 2006-0207R1 and requiring the implementation of the updated Fuel ALI and CDCCL items.

Since that [EASA] AD was issued, Fokker Services issued Revision 3 of SBF27-28-070, primarily to introduce 2 additional CDCCL items.

For the reason described above, this [EASA] AD retains the requirements of EASA AD 2014-0105, which is superseded, and requires implementation of the updated Fuel ALI and CDCCL items.

More information on this subject can be found in Fokker Services All Operators Message AOF27.043#05.

The unsafe condition is the potential of ignition sources inside fuel tanks. Such ignition sources, in combination with flammable fuel vapors, could result in fuel tank explosions and consequent loss of the airplane. You may examine the MCAI in the AD docket on the Internet at http://www.regulations.gov by searching for and locating it in Docket No. FAA-2015-8137.

Related Service Information Under 1 CFR Part 51

Fokker Services B.V. has issued Service Bulletin SBF27-28-070, Revision 3, dated December 11, 2014. The service information describes tasks for revising the maintenance or inspection program to update the fuel ALIs and CDCCLs that address fuel tank system ignition sources. This service information is reasonably available because the interested parties have access to it through their normal course of business or by the means identified in the ADDRESSES section of this NPRM.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

This proposed AD would require implementation of certain maintenance requirements and airworthiness limitations. This proposed AD would also require accomplishing the actions specified in the service information described previously.

This proposed AD would require revisions to certain operator maintenance documents to include new actions (e.g., inspections) and CDCCLs. Compliance with these actions and CDCCLs is required by 14 CFR 91.403(c). For airplanes that have been previously modified, altered, or repaired in the areas addressed by these actions, the operator may not be able to accomplish the actions described in the revisions. In this situation, to comply with 14 CFR 91.403(c), the operator must request approval for an alternative method of compliance according to the procedures specified in paragraph (m)(1) of this AD. The request should include a description of changes to the required actions that will ensure the continued operational safety of the airplane.

Notwithstanding any other maintenance or operational requirements, components that have been identified as airworthy or installed on the affected airplanes before accomplishing the revision of the airplane maintenance or inspection program, or before accomplishing the revision of the Airworthiness Limitation Section (ALS) of the Instructions for Continued Airworthiness, as specified in this AD, do not need to be reworked in accordance with the CDCCLs. However, once the airplane maintenance or inspection program, or ALS, has been revised as required by this AD, future maintenance actions on these components must be done in accordance with the CDCCLs

Costs of Compliance

We estimate that this proposed AD affects 16 airplanes of U.S. registry.

The actions that are required by AD 2008-05-18 R1, Amendment 39-16083 (74 FR 57402, November 6, 2009), take about 1 work-hour per product, at an average labor rate of $85 per work-hour. Required parts cost about $0 per product. Based on these figures, the estimated cost of the actions required by AD 2008-05-18 R1 is $85 per product.

We also estimate that it would take about 1 work-hour per product to comply with the new basic requirements of this proposed AD. The average labor rate is $85 per work-hour. Required parts would cost about $0 per product. Based on these figures, we estimate the cost of this proposed AD on U.S. operators to be $1,360, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2008-05-18 R1, Amendment 39-16083 (74 FR 57402, November 6, 2009), and adding the following new AD:

Fokker Services B.V.: Docket No. FAA-2015-8137; Directorate Identifier 2014-NM-104-AD.

(a) Comments Due Date

We must receive comments by February 18, 2016.

(b) Affected ADs

This AD replaces AD 2008-05-18 R1, Amendment 39-16083 (74 FR 57402, November 6, 2009).

(c) Applicability

This AD applies to Fokker Services B.V. Model F.27 Mark 050, 200, 300, 400, 500, 600, and 700 airplanes; certificated in any category; all serial numbers.

(d) Subject

Air Transport Association (ATA) of America Code 28, Fuel.

(e) Reason

This AD was prompted by the issuance of revised service information to update the Fuel Airworthiness Limitations Items (ALIs) and critical design configuration control limitations (CDCCLs) that address fuel tank system ignition sources. We are issuing this AD to prevent the potential of ignition sources inside fuel tanks, which, in combination with flammable fuel vapors, could result in fuel tank explosions and consequent loss of the airplane.

(f) Compliance

Comply with this AD within the compliance times specified, unless already done.

(g) Retained Revision of the ALS of the Instructions for Continued Airworthiness To Incorporate Limits (Inspections, Thresholds, and Intervals), With Revised Table Reference

This paragraph restates the actions required by paragraph (f)(1) of AD 2008-05-18 R1, Amendment 39-16083 (74 FR 57402, November 6, 2009), with revised table reference. For Model F.27 Mark 050, 200, 300, 400, 500, 600, and 700 airplanes, serial numbers 10102 through 10692 inclusive: Within 3 months after April 16, 2008 (the effective date of AD 2008-05-18, Amendment 39-15412 (73 FR 13071, March 12, 2008)), revise the ALS of the Instructions for Continued Airworthiness to incorporate the limits (inspections, thresholds, and intervals) specified in Fokker 50/60 Fuel Airworthiness Limitation Items (ALI) and Critical Design Configuration Control Limitations (CDCCL) Report SE-671, Issue 2, dated December 1, 2006; or Fokker Service Bulletin SBF27-28-070, Revision 1, dated January 8, 2008; as applicable. For all tasks identified in Fokker 50/60 Fuel Airworthiness Limitation Items (ALI) and Critical Design Configuration Control Limitations (CDCCL) Report SE-671, Issue 2, dated December 1, 2006; or Fokker Service Bulletin SBF27-28-070, Revision 1, dated January 8, 2008; the initial compliance times are as specified in Table 1 to paragraph (g) of this AD, as applicable. The repetitive inspections must be accomplished thereafter at the intervals specified in Fokker 50/60 Fuel Airworthiness Limitation Items (ALI) and Critical Design Configuration Control Limitations (CDCCL) Report SE-671, Issue 2, dated December 1, 2006; or Fokker Service Bulletin SBF27-28-070, Revision 1, dated January 8, 2008; as applicable, except as provided by paragraphs (i) and (n)(1) of this AD.

Table 1 to Paragraph (g) of This AD—Initial Compliance Times for ALS Revision
For— | The later of—
Model F.27 Mark 050 airplanes: Task 280000-01 | 102 months after April 16, 2008 (the effective date of AD 2008-05-18, Amendment 39-15412 (73 FR 13071, March 12, 2008)); or 102 months after the date of issuance of the original Dutch standard airworthiness certificate or the date of issuance of the original Dutch export certificate of airworthiness.
Model F.27 Mark 050 airplanes: Task 280000-02 | 30 months after April 16, 2008 (the effective date of AD 2008-05-18, Amendment 39-15412 (73 FR 13071, March 12, 2008)); or 30 months after the date of issuance of the original Dutch standard airworthiness certificate or the date of issuance of the original Dutch export certificate of airworthiness.
Model F.27 Mark 200, 300, 400, 500, 600, and 700 airplanes: Task 280000-01 | 78 months after April 16, 2008 (the effective date of AD 2008-05-18, Amendment 39-15412 (73 FR 13071, March 12, 2008)); or 78 months after the date of issuance of the original Dutch standard airworthiness certificate or the date of issuance of the original Dutch export certificate of airworthiness.
Model F.27 Mark 200, 300, 400, 500, 600, and 700 airplanes: Task 280000-02 | 18 months after April 16, 2008 (the effective date of AD 2008-05-18, Amendment 39-15412 (73 FR 13071, March 12, 2008)); or 18 months after the date of issuance of the original Dutch standard airworthiness certificate or the date of issuance of the original Dutch export certificate of airworthiness.

(h) Retained Revision of the ALS of the Instructions for Continued Airworthiness To Incorporate CDCCLs, With No Changes

This paragraph restates the actions required by paragraph (f)(2) of AD 2008-05-18 R1, Amendment 39-16083 (74 FR 57402, November 6, 2009), with no changes. For Model F.27 Mark 050, 200, 300, 400, 500, 600, and 700 airplanes, serial numbers 10102 through 10692 inclusive: Within 3 months after April 16, 2008 (the effective date of AD 2008-05-18, Amendment 39-15412 (73 FR 13071, March 12, 2008)), revise the ALS of the Instructions for Continued Airworthiness to incorporate the CDCCLs as defined in Fokker 50/60 Fuel Airworthiness Limitations Items (ALI) and Critical Design Configuration Control Limitations (CDCCL) Report SE-671, Issue 2, dated December 1, 2006; or Fokker Service Bulletin SBF27-28-070, Revision 1, dated January 8, 2008; as applicable.

(i) Retained Exceptional Short-Term Extensions Provision, With No Changes

This paragraph restates the exceptional short-term extensions provision specified in paragraph (f)(3) of AD 2008-05-18 R1, Amendment 39-16083 (74 FR 57402, November 6, 2009), with no changes. Where Fokker 50/60 Fuel Airworthiness Limitation Items (ALI) and Critical Design Configuration Control Limitations (CDCCL) Report SE-671, Issue 2, dated December 1, 2006; or Fokker Service Bulletin SBF27-28-070, Revision 1, dated January 8, 2008; as applicable; allow for exceptional short-term extensions, an exception is acceptable to the FAA if it is approved by the appropriate principal inspector in the FAA Flight Standards Certificate Holding District Office.

(j) Retained No Alternative Actions, Intervals, and/or CDCCLs, With New Exception

This paragraph restates the requirement specified in paragraph (f)(4) of AD 2008-05-18 R1, Amendment 39-16083 (74 FR 57402, November 6, 2009), with a new exception. Except as required by paragraph (l) of this AD, after accomplishing the actions specified in paragraphs (g) and (h) of this AD, no alternative inspections, inspection intervals, or CDCCLs may be used, unless the inspections, inspection intervals, or CDCCLs are approved as an alternative method of compliance (AMOC) in accordance with the procedures specified in paragraph (m)(1) of this AD.

(k) Retained Credit for Previous Actions, With No Changes

This paragraph restates the credit provided in paragraph (f)(5) of AD 2008-05-18 R1, Amendment 39-16083 (74 FR 57402, November 6, 2009), with no changes. Actions done before April 16, 2008 (the effective date of AD 2008-05-18, Amendment 39-15412 (73 FR 13071, March 12, 2008)), in accordance with Fokker 50/60 Fuel Airworthiness Limitation Items (ALI) and Critical Design Configuration Control Limitations (CDCCL) Report SE-671, Issue 1, dated January 31, 2006; and Fokker Service Bulletin SBF27/28-070, dated June 30, 2006; are acceptable for compliance with the corresponding requirements of this AD.

(l) New Requirements of This AD: Revise the Maintenance or Inspection Program

For Model F.27 Mark 200, 300, 400, 500, 600, and 700 airplanes: Within 3 months after the effective date of this AD, revise the maintenance or inspection program, as applicable, by incorporating the Fuel Airworthiness Limitation Items and CDCCLs identified in the Accomplishment Instructions of Fokker Service Bulletin SBF27-28-070, Revision 3, dated December 11, 2014. Accomplishing the actions required by this paragraph ends the requirements specified in paragraphs (g) and (h) of this AD for that airplane. The initial compliance time for the Fuel Airworthiness Limitation Items identified in Fokker Service Bulletin SBF27-28-070, Revision 3, dated December 11, 2014, is at the initial compliance time specified in Fokker Service Bulletin SBF27-28-070, Revision 3, dated December 11, 2014, or within 3 months after the effective date of this AD, whichever occurs later.

(m) No Alternative Actions, Intervals, or Critical Design Configuration Control Limitations (CDCCLs)

After accomplishing the revision required by paragraph (l) of this AD, no alternative actions (e.g., inspections), intervals, or CDCCLs may be used; unless the actions, intervals, or CDCCLs are approved as an alternative method of compliance (AMOC) in accordance with the procedures specified in paragraph (n)(1) of this AD.

(n) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Fokker B.V. Service's EASA Design Organization Approval (DOA). If approved by the DOA, the approval must include the DOA-authorized signature.

(o) Related Information

(1) Refer to MCAI EASA Airworthiness Directive 2015-0029, dated February 24, 2015, for related information. This MCAI may be found in the AD docket on the Internet at http://www.regulations.gov by searching for and locating Docket No. FAA-2015-8137.

(2) For service information identified in this AD, contact Fokker Services B.V., Technical Services Dept., P.O. Box 1357, 2130 EL Hoofddorp, the Netherlands; telephone +31 (0)88-6280-350; fax +31 (0)88-6280-111; email technicalservices@fokker.com; Internet http://www.myfokkerfleet.com. You may view this referenced service information at the FAA, Transport Airplane Directorate, 1601 Lind Avenue SW., Renton, WA. For information on the availability of this material at the FAA, call 425-227-1221.

Issued in Renton, Washington, on December 21, 2015.
Michael Kaszycki,
Acting Manager, Transport Airplane Directorate, Aircraft Certification Service.

[FR Doc. 2015-32904 Filed 12-31-15; 8:45 am]

BILLING CODE 4910-13-P